SOCIAL SECURITY ADMINISTRATION

[Docket No: SSA-2022-0067]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections and one new collection.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Comments: https://www.reginfo.gov/public/do/PRAMain. Submit your comments online referencing Docket ID Number [SSA-2022-0067].

(SSA) Social Security Administration, OLCA, Attn: Reports Clearance Director, 3100 West High Rise, 6401 Security Blvd., Baltimore, MD 21235, Fax: 410-966-2830, Email address: OR.Reports.Clearance@ssa.gov.

Or you may submit your comments online through https://www.reginfo.gov/public/do/PRAMain, referencing Docket ID Number [SSA-2022-0067].

I. The information collections below are pending at SSA. SSA will submit them to OMB within 60 days from the date of this notice. To be sure we consider your comments, we must receive them no later than February 28, 2023. Individuals can obtain copies of the collection instruments by writing to the above email address.

1. Vocational Resource Facilitator Demonstration—0960-NEW. SSA is undertaking the Vocational Resource Facilitator Demonstration (VRFD) under the Interventional Cooperative Agreement Program (ICAP). ICAP allows SSA to partner with various non-federal groups and organizations to advance interventional research connected to the Supplemental Security Income (SSI) and Social Security Disability Insurance (SSDI) programs. VRFD will test the Vocational Resource Facilitator (VRF) intervention, which helps newly injured spinal cord injury or disease (SCI) or brain injury (BI) patients pursue their employment goals. The VRFD will provide empirical evidence on the impact of the intervention on patients in several critical areas: (1) employment and earnings; (2) SSI and SSDI benefit receipt; and (3) satisfaction and well-being. A rigorous evaluation of VRFD is critical to help SSA and other interested parties assess promising options to improve employment-related outcomes and decrease benefit receipt. The VRFD evaluation uses a randomized control experimental design that includes one treatment group and one control group. Control group members will receive a referral for services to the Division of Vocational Rehabilitation Services (DVRS), New Jersey's state Vocational Rehabilitation agency. The treatment group will receive a referral to DVRS and employment services from a resource facilitator (RF). RFs are fully integrated members of clinical teams who engage with injured workers during inpatient rehabilitation about return to work. The central research questions include:

• Was the intervention implemented as planned?

• What are key considerations for scaling up or adopting the VRF model at other facilities?

• What were the impacts of VRF on outcomes of interest?

• Did treatment group members earn or work more than control group members?

• Were treatment group members relatively less likely to apply to or receive SSI or SSDI benefits?

• Did treatment group members experience greater satisfaction and well-being than control group members?

• What were the benefits and costs of the demonstration across key groups?

The proposed public survey data collections will support three components of the planned implementation, impact, and benefit-cost analyses. The data collection efforts will provide information that is not available in SSA program records about the characteristics and outcomes of VRFD participants in the treatment and control groups. Respondents are newly injured SCI and BI patients, who will provide written consent before agreeing to participate in the study and be randomly assigned to one of the study groups.

Type of Request: Request for a new information collection.

Modality of completion | Number of respondents | Frequency of response | Average burden per response (minutes) | Estimated total annual burden (hours) | Average theoretical hourly cost amount (dollars) * | Average wait time in field office or for teleservice centers (minutes) ** | Total annual opportunity cost (dollars) ***
Informed Consent Form | 500 | 1 | 10 | 83 | * $28.01 | ** 21 | *** $7,227
Baseline Survey | 500 | 1 | 15 | 125 | * 28.01 | ** 21 | *** 8,403
12-month Follow-up Survey | 400 | 1 | 20 | 133 | * 28.01 | ** 21 | *** 7,647
Staff Interviews with Site Staff | 10 | 2 | 66 | 22 | * 28.01 | ** 21 | *** 728
Onsite Audit of sample of case files | 1 | 2 | 30 | 1 | * 28.01 | ** 21 | *** 28
Totals | 1,411 |  |  | 364 |  |  | *** 24,033
* We based this figure on the average U.S. worker's hourly wages, as reported by Bureau of Labor Statistics data (https://www.bls.gov/oes/current/oes_nat.htm).
** We based this figure by averaging the average FY 2022 wait times for field offices and teleservice centers, based on SSA's current management information data.
*** This figure does not represent actual costs that SSA is imposing on recipients of Social Security payments to complete this application; rather, these are theoretical opportunity costs for the additional time respondents will spend to complete the application. There is no actual charge to respondents to complete the application.

2. Application for a Social Security Number Card, the Social Security Number Application Process (SSNAP), and internet SSN Replacement Card (iSSNRC) Application—20 CFR 422.103-422.110—0960-0066.

SSA collects information on the SS-5 (used in the United States) and SS-5-FS (used outside the United States) to issue original or replacement Social Security cards. SSA also enters the application data into the SSNAP application when issuing a card via telephone or in person. In addition, hospitals collect the same information on SSA's behalf for newborn children through the Enumeration-at-Birth process. In this process, parents of newborns provide hospital birth registration clerks with information required to register these newborns. Hospitals send this information to State Bureaus of Vital Statistics (BVS), and they send the information to SSA's National Computer Center. SSA then uploads the data to the SSA mainframe along with all other enumeration data, and we assign the newborn a Social Security number (SSN) and issue a Social Security card. Respondents can also use these modalities to request a change in their SSN records. In addition, the iSSNRC internet application collects information similar to the paper SS-5 for no-change, and a name change due to marriage, replacement SSN cards for adult U.S. citizens. The iSSNRC modality allows certain applicants for SSN replacement cards to complete the internet application and submit the required evidence online rather than completing a paper Form SS-5. Finally, oSSNAP collects information similar to that which we collect on the paper SS-5 for no change situations, with the exception of a name change. oSSNAP allows applicants, both U.S. citizens and non-citizens, for new or replacement SSN cards to start the application process on-line, receive a list of evidentiary documents, and then submit the application data to SSA for further processing by SSA employees. Applicants need to visit a local SSA office to complete the application process. We are planning to make minor changes to clarify that one screen is optional, and to provide a space for respondents to inform SSA of the types of documents they will present during the in-person follow up meeting. The respondents for this information collection are applicants for original and replacement Social Security cards, or individuals who wish to change information in their SSN records, who use any of the modalities described above.

Type of Request: Revision of an OMB-approved information collection.

Modality of completion | Number of respondents | Frequency of response | Average burden per response (minutes) | Estimated total annual burden (hours) | Average theoretical hourly cost amount (dollars) * | Average wait time in field office or for teleservice centers (minutes) ** | Total annual opportunity cost (dollars) ***
EAB Modality:
Hospital staff who relay the State birth certificate information to the BVS and SSA through the EAB process | 3,759,517 | 1 | 5 | 313,293 | * $24.49 | ** 0 | *** $7,672,546
iSSNRC Modality:
Adult U.S. Citizens requesting a replacement card with no changes through the iSSNRC | 3,002,698 | 1 | 5 | 250,225 | * 28.01 | ** 0 | *** 7,008,802
Adult U.S. Citizens requesting a replacement card with a name change through iSSNRC | 1,312 | 1 | 5 | 109 | * 28.01 | ** 0 | *** 3,053
oSSNAP Modality:
Adult U.S. Citizens providing information to receive a replacement card through the oSSNAP+ | 822,104 | 1 | 5 | 68,509 | * 28.01 | ** 24 | *** 11,129,802
Adult U.S. Citizens providing information to receive an original card through the oSSNAP+ | 37,323 | 1 | 5 | 3,110 | * 28.01 | * 24 | *** 505,272
Adult Non-U.S. Citizens providing information to receive a replacement card through the oSSNAP+ | 84,635 | 1 | 5 | 7,053 | * 28.01 | ** 24 | *** 1,145,805
SSNAP/SS-5 Modality:
Respondents who do not have to provide parents' SSNs | 6,973,505 | 1 | 9 | 1,046,026 | * 28.01 | ** 24 | **** 107,430,338
Respondents whom we ask to provide parents' SSNs (when applying for original SSN cards for children under age 12) | 207,521 | 1 | 9 | 31,128 | * 28.01 | ** 24 | *** 3,196,949
Applicants age 12 or older who need to answer additional questions so SSA can determine whether we previously assigned an SSN | 1,113,144 | 1 | 10 | 185,524 | * 28.01 | ** 24 | *** 17,668,204
Applicants asking for a replacement SSN card beyond the allowable limits (i.e., who must provide additional documentation to accompany the application) | 6,703 | 1 | 60 | 6,703 | * 28.01 | ** 24 | *** 262,846
Enumeration Quality Review:
Authorization to SSA to obtain personal information cover letter | 500 | 1 | 15 | 125 | * 28.01 | ** 24 | *** 9,103
Authorization to SSA to obtain personal information follow-up cover letter | 500 | 1 | 15 | 125 | * 28.01 | ** 24 | *** 9,103
Grand Total:
Totals | 16,213,543 |  |  | 1,928,937 |  |  | *** 159,309,973
+ The number of respondents for this modality is an estimate based on google analytics data for the SS-5 form downloads from SSA.Gov.
* We based this figure on average Hospital Records Clerks (https://www.bls.gov/oes/current/oes292098.htm), and average U.S. worker's hourly wages (https://www.bls.gov/oes/current/oes_nat.htm) as reported by the U.S. Bureau of Labor Statistics.
** We based this figure on the average FY 2022 wait times for field offices, based on SSA's current management information data.
*** This figure does not represent actual costs that SSA is imposing on recipients of Social Security payments to complete this application; rather, these are theoretical opportunity costs for the additional time respondents will spend to complete the application. There is no actual charge to respondents to complete the application.

II. SSA submitted the information collection below to OMB for clearance. Your comments regarding this information collection would be most useful if OMB and SSA receive them 30 days from the date of this publication. To be sure we consider your comments, we must receive them no later than January 30, 2023. Individuals can obtain copies of this OMB clearance package by writing to OR.Reports.Clearance@ssa.gov.

Advance Designation of Representative Payee—0960-0814. On April 13, 2018, the President signed into law The Strengthening Protections for Social Security Beneficiaries Act of 2018, also known as Public Law (Pub. L.) 115-165. Section 201 of the law allows SSA beneficiaries and applicants under title II, title VIII, and title XVI of the Social Security Act to designate individuals to serve as a representative payee should the need arise in the future. Section 201(j)(2) of Public Law 115-165 provides the requirements for selecting a qualified representative payee. SSA only offers the option to advance designate to capable adults and emancipated minors. Beneficiaries who have an assigned representative payee, or have a representative application in process, cannot advance designate. Form SSA-4547, Advance Designation of Representative Payee (ADRP), allows beneficiaries or applicants the option to designate individuals in order of priority, to serve as a representative. Beneficiaries or applicants can update or change the advance designee order of priority at any time. SSA uses the information on Form SSA-4547 to select a qualified representative payee in order of priority. If the selected representative payee is unable or unwilling to serve, or meet SSA requirements, SSA will select another representative payee to serve in the beneficiaries and applicant's best interest. SSA will notify beneficiaries annually of the individuals they chose in advance to be their representative payee. The respondents are SSA beneficiaries and claimants who want to choose an advance designate representative.

Type of Request: Revision of an OMB-approved information collection.

Submission of Advance Designation
Modality of completion | Number of respondents | Frequency of response | Average burden per response (minutes) | Estimated total annual burden (hours) | Average theoretical hourly cost amount (dollars) ** | Average wait time in field office (minutes) *** | Total annual opportunity cost (dollars) ****
Intranet version (Paper Form SSA-4547, SSI Claims System, MCS, iMain) | * 473,052 | 1 | 6 | 47,305 | ** $19.86 | *** 24 | **** $4,697,406
Internet version (mySSA) | 327,101 | 1 | 6 | 32,710 | ** 19.86 |  | **** 649,621
Internet version (iClaim) | 827,257 | 1 | 6 | 82,726 | ** 19.86 |  | **** 1,642,938
Totals | 1,627,410 |  |  | 162,741 |  |  | **** 6,989,965
* SSA enters advance designation information we receive on the paper Form SSA-4547 in the ADRP system using one of the Intranet applications. Accordingly, we have included the paper form responses in this figure for Intranet responses.
** We based this figure by averaging both the average DI payments based on SSA's current FY 2022 data (https://www.ssa.gov/legislation/2022factsheet.pdf), and the average U.S. worker's hourly wages, as reported by Bureau of Labor Statistics data (https://www.bls.gov/oes/current/oes_nat.htm).
*** We based this figure on the average FY 2022 wait times for field offices, based on SSA's current management information data.
**** This figure does not represent actual costs that SSA is imposing on recipients of Social Security payments to complete this application; rather, these are theoretical opportunity costs for the additional time respondents will spend to complete the application. There is no actual charge to respondents to complete the application.

Waiver of Advance Designation
Modality of completion | Number of respondents | Frequency of response | Average burden per response (minutes) | Estimated total annual burden (hours) | Average theoretical hourly cost amount (dollars) ** | Average wait time in field office (minutes) *** | Total annual opportunity cost (dollars) ****
Intranet version (Paper Form SSA-4547, SSI Claims System, MCS, iMain) | 394,493 | 1 | 2 | 13,150 | ** $19.86 | *** 24 | **** $3,395,007
Internet version (mySSA) | 262,996 | 1 | 2 | 8,767 | ** 19.86 |  | **** 174,113
Internet version (iClaim) | 657,489 | 1 | 2 | 21,916 | ** 19.86 |  | **** 435,252
Totals | 1,314,978 |  |  | 43,833 |  |  | **** 4,004,372
** We based this figure by averaging both the average DI payments based on SSA's current FY 2022 data (https://www.ssa.gov/legislation/2022factsheet.pdf), and the average U.S. worker's hourly wages, as reported by Bureau of Labor Statistics data (https://www.bls.gov/oes/current/oes_nat.htm).
*** We based this figure on the average FY 2022 wait times for field offices, based on SSA's current management information data.
**** This figure does not represent actual costs that SSA is imposing on recipients of Social Security payments to complete this application; rather, these are theoretical opportunity costs for the additional time respondents will spend to complete the application. There is no actual charge to respondents to complete the application.

Grant Totals
Modality of completion | Number of respondents | Frequency of response | Average burden per response (minutes) | Estimated total annual burden (hours) | Average theoretical hourly cost amount (dollars) ** | Average wait time in field office (minutes) *** | Total annual opportunity cost (dollars) ****
Totals | 2,942,388 |  |  | 206,574 |  |  | **** $10,994,337
** We based this figure by averaging both the average DI payments based on SSA's current FY 2022 data (https://www.ssa.gov/legislation/2022factsheet.pdf), and the average U.S. worker's hourly wages, as reported by Bureau of Labor Statistics data (https://www.bls.gov/oes/current/oes_nat.htm).
*** We based this figure on the average FY 2022 wait times for field offices, based on SSA's current management information data.
**** This figure does not represent actual costs that SSA is imposing on recipients of Social Security payments to complete this application; rather, these are theoretical opportunity costs for the additional time respondents will spend to complete the application. There is no actual charge to respondents to complete the application.

Dated: December 27, 2022.
Naomi Sipple,
Reports Clearance Officer, Social Security Administration.

[FR Doc. 2022-28433 Filed 12-29-22; 8:45 am]

BILLING CODE 4191-02-P